DEPARTMENT OF THE INTERIOR

Fish and Wildlife Service

[FWS-R8-FAC-2018-N070; FXFR133508RMAIN-189-FF08F00000]

Delta Research Station Project: Estuarine Research Station and Fish Technology Center, Final Environmental Impact Report/Environmental Impact Statement; Sacramento, California

AGENCY: Fish and Wildlife Service, Interior.

ACTION: Notice of availability.

SUMMARY: We, the U.S. Fish and Wildlife Service (USFWS), have prepared a final environmental impact report/environmental impact statement (EIR/EIS) under the National Environmental Policy Act (NEPA) of 1969 and its implementing regulations. The final EIR/EIS evaluates impacts regarding construction and operation of the Delta Research Station (DRS) in the San Francisco Bay/Sacramento-San Joaquin Delta Estuary, California. The planned DRS would consist of two facilities, a proposed Estuarine Research Station and a Fish Technology Center. The USFWS is the lead Federal agency responsible for coordinating the environmental analysis for the proposed action under NEPA. The California Department of Water Resources is the lead State agency responsible for coordinating the environmental analysis under the California Environmental Quality Act.

DATES: We must receive any comments on the final EIR/EIS by 5 p.m. on September 12, 2019. We will sign a record of decision no sooner than 30 days after the publication of the Environmental Protection Agency (EPA) notice of the final EIS in the Federal Register.

ADDRESSES: To view or download the Final EIR/EIS, or for a list of locations to view hard-bound copies, go to http://www.deltaresearchstation.com. For how to view comments on the EIS from the Environmental Protection Agency (EPA), or for information on EPA's role in the EIS process, see EPA's Role in the EIS Process under SUPPLEMENTARY INFORMATION.

FOR FURTHER INFORMATION CONTACT: Barbara Beggs, at 916-930-5603 (phone) or barbara_beggs@fws.gov (email). Persons who use a telecommunications device for the deaf may call the Federal Relay Service (FRS) at 1-800-877-8339. The FRS is available 24 hours a day, 7 days a week, for you to leave a message or question for the above individual. You will receive a reply during regular business hours.

SUPPLEMENTARY INFORMATION:

Introduction

We, the U.S. Fish and Wildlife Service (USFWS), have prepared a Final Environmental Impact Report/Environmental Impact Statement (EIR/EIS) under the National Environmental Policy Act (NEPA) of 1969, as amended (42 U.S.C. 4321 et seq.), and its implementing regulations (40 CFR 1500 et seq.). The Final EIR/EIS evaluates impacts regarding construction and operation of the Delta Research Station (DRS) in the San Francisco Bay/Sacramento-San Joaquin Delta Estuary (Bay-Delta), California. The planned DRS would consist of two facilities, a proposed Estuarine Research Station (ERS) and a Fish Technology Center (FTC). The U.S. Fish and Wildlife Service (USFWS) is the lead Federal agency responsible for coordinating the environmental analysis for the proposed action under NEPA. The California Department of Water Resources (DWR) is the lead State agency responsible for coordinating the environmental analysis under the California Environmental Quality Act (CEQA). The EIR/EIS is now available for review. Volumes I and II are the draft EIR/EIS, and Volume III identifies the changes made to the draft EIR/EIS and provides the responses to comments. The Final EIR/EIS addressed comments received on the Draft EIR/EIS and contained two attachments related to the public review of the Draft EIR/EIS: Attachment A, which includes the Draft EIR/EIS notices and mailing list; and Attachment B, which includes public meeting materials such as the meeting sign-in sheet, comment form, speaker card, and presentation.

Public Coordination

On December 10, 2014, the USFWS issued a Notice of Intent (NOI) to prepare an EIR/EIS on the DRS (79 FR 73332; https://www.gpo.gov/fdsys/pkg/FR-2014-12-10/pdf/2014-28891.pdf). The NOI identified the purpose and need of the project, provided an overview of the DRS and proposed facilities, and requested comments throughout the scoping process. Two scoping meetings were held, in Rio Vista and Stockton, on December 15, 2014, and December 16, 2014, respectively. On October 30, 2015, the Draft EIR/EIS was released to the public and a 45-day public comment period was opened through notification in the Federal Register (80 FR 66926; https://www.gpo.gov/fdsys/pkg/FR-2015-10-30/pdf/FR-2015-10-30.pdf). This notice described the proposed action and the range of alternatives. Two public meetings were held, in Rio Vista and Stockton, on December 1, 2015, and December 3, 2015, respectively.

Background

The proposed project consists of construction and operation of two facilities, a proposed Estuarine Research Station (ERS) and a Fish Technology Center (FTC). Collectively, these facilities are intended to serve as an aquatic research and monitoring facility that is located in a centralized area of the Bay-Delta. The project reflects the outcome of a multiyear collaboration between DWR, USFWS, California Department of Fish and Wildlife, and other agencies involved in the Interagency Ecological Program (IEP).

The DRS would consolidate ongoing Interagency Ecological Program (IEP) research and monitoring activities throughout the Bay-Delta and provide facilities for study and production of endangered Delta fishes. Currently, the IEP has approximately 145 State and Federal employees that conduct research throughout the Bay-Delta. The IEP collaboratively monitors, researches, models, and synthesizes critical information for adaptive management water project operations and planning and regulatory purposes relative to the aquatic ecosystem in the Bay-Delta. USFWS and DWR plan to construct the DRS in a centrally located area within the Bay-Delta, and the facilities are expected to enhance interagency coordination and collaboration.

The purpose of the DRS is to enhance interagency coordination and collaboration by developing a shared facility. Currently, Federal and State agency staff working on similar Bay-Delta issues are distributed among different locations that are often remote from the Bay-Delta. Construction and operation of the DRS would reduce travel times and costs and improve research and monitoring activity efficiency. The DRS would consolidate existing IEP programs currently located throughout the Delta, and the FTC would house a new program to develop and apply captive fish propagation technologies in support of population restoration.

The Draft EIR/EIS evaluated the potential impacts of three action alternatives, as well as the No Project Alternative: The No Project Alternative (DWR and USFWS would not construct the ERS or FTC); Alternative 2 (the ERS and FTC facilities would be consolidated in the predominantly undeveloped portions of the Rio Vista Army Reserve Center site); Alternative 3 (the ERS facilities would involve rehabilitation and reuse of existing facilities); and Alternative 4 (the ERS and FTC facilities would be located at the 845 Ryde Avenue site in Stockton). California Department of Water Resources (DWR), the CEQA lead agency, identified Alternative 2 as the proposed project and USFWS has selected Alternative 2 as the NEPA preferred alternative.

Since publication of the Draft EIR/EIS, Alternative 2 was modified such that the new marina would be partially excavated inland, as opposed to being entirely located within the existing Sacramento River channel (as it was described in the Draft EIR/EIS). The Final EIR/EIS described and analyzed project modifications and refinements to Alternative 2 (Rio Vista Army Reserve Center—Configuration 1). This modified alternative consists of developing the ERS and FTC facilities on the southern edge of Rio Vista. The ERS and FTC facilities would be consolidated in the predominantly undeveloped portions of the site, and the marina would be established in the Sacramento River at the southeastern end of the site. The facilities layout of the modified Alternative 2 would be very similar to that which is described in the Draft EIR/EIS, with the exception that some building footprints would be shifted westerly to accommodate the partially excavated marina. These modifications were made in response to comments from the Army Corps of Engineers and did not result in substantial changes in the proposed action relevant to environmental concerns. Therefore, a supplement was not required under 40 CFR 1502.9(c)(1)(i).

The Final EIR/EIS contains responses to all substantive comments received on the Draft EIR/EIS, reflects comments and any information received during the review period, and includes revisions to the environmental analysis to reflect modifications to Alternative 2.

DWR's certification of the EIR and final decision-making under the CEQA occurred May 18, 2017. USFWS will not sign the Record of Decision until at least 30 days after EPA publishes a notice of availability of the Final EIR/EIS.

EPA's Role in the EIS Process

The EPA is charged under section 309 of the Clean Air Act to review all Federal agencies' EISs and to comment on the adequacy and the acceptability of the environmental impacts of proposed actions in the EISs.

EPA also serves as the repository (EIS database) for EISs prepared by Federal agencies and provides notice of their availability in the Federal Register. The EIS database provides information about EISs prepared by Federal agencies, as well as EPA's comments concerning the EISs. All EISs are filed with EPA, which publishes a notice of availability on Fridays in the Federal Register.

For more information, see http://www.epa.gov/compliance/nepa/eisdata.html. You may search for EPA comments on EISs, along with EISs themselves, at https://cdxnodengn.epa.gov/cdx-enepa-public/action/eis/search.

Public Availability of Comments

All comments received, including names and addresses, will become part of the decision record for this action and will be available to the public. Before including your address, phone number, email address, or other personal identifying information in your comment, you should be aware that your entire comment—including your personal identifying information—will be publicly available. If you submit a hardcopy comment that includes personal identifying information, you may request at the top of your document that we withhold this information from public review. However, we cannot guarantee that we will be able to do so.

Authority

This notice is published in accordance with the requirements of National Environmental Policy Act of 1969, as amended (42 U.S.C. 4321 et seq.), the Council for Environmental Quality's regulations for implementing NEPA (40 CFR 1500 through 1508), and the Department of the Interior's NEPA regulations (43 CFR part 46).

Jody Holzworth,
Deputy Regional Director, Pacific Southwest Region, Fish and Wildlife Service.

[FR Doc. 2019-17225 Filed 8-12-19; 8:45 am]

BILLING CODE 4333-15-P